SECURITIES AND EXCHANGE COMMISSION

17 CFR Part 240

[Release No. 34-55777; File No. S7-08-07]

RIN 3235-AJ85

Amendments to Financial Responsibility Rules for Broker-Dealers

AGENCY: Securities and Exchange Commission.

ACTION: Proposed rule; extension of comment period.

SUMMARY: The Securities and Exchange Commission is extending the comment period for a release proposing amendments to its net capital, customer protection, books and records, and notification rules for broker-dealers under the Securities Exchange Act of 1934 (“Exchange Act”), which was issued by the Commission on March 9, 2007 (Exchange Act Release No. 55431, 72 FR 12862 (Mar. 19, 2007)). The original comment period for Release No. 34-55431 is scheduled to end on May 18, 2007. The Commission is extending the time period in which to provide the Commission with comments on the proposed amendments described in Release No. 34-55431 for thirty-one days until Monday, June 18, 2007. This action will allow all interested persons additional time to analyze the issues and prepare their comments.

DATES: Comments should be received on or before June 18, 2007.

ADDRESSES: Comments may be submitted by any of the following methods:

Electronic Comments

• Use the Commission's Internet comment form (http://www.sec.gov/rules/proposed); or

• Send an e-mail to rule-comments@sec.gov. Please include File Number S7-08-07 on the subject line; or

• Use the Federal eRulemaking Portal (http://www.regulations.gov). Follow the instructions for submitting comments.

Paper Comments

• Send paper comments in triplicate to Nancy M. Morris, Secretary, Securities and Exchange Commission, 100 F Street, NE., Washington, DC 20549-1090.

All submissions should refer to File Number S7-08-07. This file number should be included on the subject line if e-mail is used. To help us process and review your comments more efficiently, please use only one method. The Commission will post all comments on the Commission's Internet Web site (http://www.sec.gov/rules/proposed). Comments will also be available for public inspection and copying in the Commission's Public Reference Room, 100 F Street, NE., Washington, DC 20549. All comments received will be posted without change; we do not edit personal identifying information from submissions. You should submit only information that you wish to make available publicly.

FOR FURTHER INFORMATION CONTACT: Michael A. Macchiaroli, Associate Director, at (202) 551-5525; Thomas K. McGowan, Assistant Director, at (202) 551-5521; Randall Roy, Branch Chief, at (202) 551-5522; or Bonnie Gauch, Attorney, (202) 551-5524; Division of Market Regulation, Securities and Exchange Commission, 100 F Street, NE., Washington, DC 20549-6628.

SUPPLEMENTARY INFORMATION: On March 9, 2007, the Commission requested comment on proposed amendments to the Commission's net capital, customer protection, books and records, and notification rules for broker-dealers under the Exchange Act.¹ Specifically, the proposed amendments are designed to address several emerging areas of concern regarding the financial requirements for broker-dealers. They also would update the financial responsibility rules and make certain technical amendments.

The Commission originally requested that comments on this proposal be received by May 18, 2007. The Commission thus far has received few public comments and believes that extending the comment period would be appropriate in order to give the public additional time to thoroughly consider the matters addressed by the release.² Therefore, the Commission is extending the comment period for Release No. 34-55431 (Amendments to Financial Responsibility Rules for Broker-Dealers) for thirty-one days, to Monday, June 18, 2007.³

¹ See Exchange Act Release No. 55431, 72 FR 12862 (Mar. 19, 2007).

2

² See also Letter from Gerard J. Quinn, Vice President and Associate General Counsel of SIFMA to Michael Macchiaroli, date May 4, 2007 (noting the importance of the issues discussed in the release and the complexity of the issues involved).

³ If the comment period was extended for thirty days, the due date would fall on a Sunday. Therefore, the Commission is extending the comment period for thirty-one days.

Dated: May 17, 2007.
By the Commission.
Nancy M. Morris,
Secretary.

[FR Doc. E7-9833 Filed 5-22-07; 8:45 am]

BILLING CODE 8010-01-P